DEPARTMENT OF THE INTERIOR

Fish and Wildlife Service

[FWS-R7-SM-2009-N0035] [70101-1261-0000-L6]

Information Collection Sent to the Office of Management and Budget (OMB) for Approval; OMB Control Number 1018-0120; Federal Subsistence Regional Advisory Council Membership Application/Nomination and Interview Forms

AGENCY: Fish and Wildlife Service, Interior.

ACTION: Notice; request for comments.

SUMMARY: We (Fish and Wildlife Service) have sent an Information Collection Request (ICR) to OMB for review and approval. The ICR, which is summarized below, describes the nature of the collection and the estimated burden and cost. This ICR is scheduled to expire on March 31, 2009. We may not conduct or sponsor and a person is not required to respond to a collection of information unless it displays a currently valid OMB control number. However, under OMB regulations, we may continue to conduct or sponsor this information collection while it is pending at OMB.

DATES: You must send comments on or before March 19, 2009.

ADDRESSES: Send your comments and suggestions on this ICR to the Desk Officer for the Department of the Interior at OMB-OIRA at (202) 395-6566 (fax) or OIRA_DOCKET@OMB.eop.gov (e-mail). Please provide a copy of your comments to Hope Grey, Information Collection Clearance Officer, Fish and Wildlife Service, MS 222-ARLSQ, 4401 North Fairfax Drive, Arlington, VA 22203 (mail) or hope_grey@fws.gov (e-mail).

FOR FURTHER INFORMATION CONTACT: To request additional information about this ICR, contact Hope Grey by mail or e-mail (see ADDRESSES) or by telephone at (703) 358-2482.

SUPPLEMENTARY INFORMATION:

OMB Control Number: 1018-0120.

Title: Federal Subsistence Regional Advisory Council Membership Application/Nomination and Interview Forms.

Service Form Number(s): FWS Forms 3-2321, 3-2322, and 3-2323.

Type of Request: Extension of currently approved collection.

Affected Public: Alaska residents.

Respondent's Obligation: For applicants and persons nominating someone for council membership, response is required to obtain or retain a benefit. For references and key contacts, response is voluntary.

Frequency of Collection: On occasion.

Activity | Number of annual respondents | Number of annual responses | Completion time per response | Annual burden hours
FWS Form 3-2321 | 75 | 75 | 2 hours | 150
FWS Form 3-2322 | 75 | 75 | 30 minutes | 38
FWS Form 3-2323 | 250 | 250 | 15 minutes | 62
Totals | 400 | 400 |  | 250

Abstract: Title VIII of the Alaska National Interest Lands Conservation Act (16 U.S.C. 3101) designates the Departments of the Interior and Agriculture as the key agencies responsible for implementing the subsistence priority on Federal public lands for rural Alaska residents. These responsibilities include the establishment of Regional Councils with members from each region who are knowledgeable about the region and subsistence uses of the public lands. One-third of the seats on the Regional Councils become vacant each year. Additional vacancies may occur due to resignations or deaths of sitting members.

Each person desiring to serve on a Regional Council must complete FWS Form 3-2321 (Federal Subsistence Regional Advisory Council Membership Application/Nomination). Persons nominating other individuals for membership also complete this form. Applicants must provide three references and information on:

(1) Their knowledge of fish and wildlife resources as well as subsistence and other uses of the resources.

(2) Their service on working groups, conservation committees, etc.

(3) How they would represent the people in the region.

(4) Their willingness to travel and attend meetings.

Federal staff use FWS Form 3-2322 (Regional Advisory Council Candidate Interview) to conduct applicant interviews by telephone. Respondents do not see the printed form. Interviewers ask applicants:

(1) About their willingness to serve on the Regional Council, and

(2) To explain information provided on FWS Form 3-2321.

Federal staff use FWS Form 3-2323 (Regional Advisory Council Reference/Key Contact Interview) to conduct interviews of references/key contacts for prospective Regional Council members. We conduct all interviews by telephone and the respondents do not see the printed form. Interviewers will ask questions about the applicant's:

(1) Knowledge of fish and wildlife resources as well as subsistence practices and commercial/sport activities.

(2) Leadership ability.

(3) Ability to communicate.

The Federal Subsistence Board uses this information to make recommendations to the Secretary of the Interior for appointment of members to the Regional Councils. We restrict the information collected to the Regional Council member selection process and only to staff that the Federal Subsistence Board deems necessary.

Comments: On December 10, 2008, we published in the Federal Register (73 FR 75124) a notice of our intent to request that OMB renew this ICR. In that notice, we solicited comments for 60 days, ending on February 9, 2008. We did not receive any comments in response to that notice.

We again invite comments concerning this information collection on:

(1) Whether or not the collection of information is necessary, including whether or not the information will have practical utility;

(2) The accuracy of our estimate of the burden for this collection of information;

(3) Ways to enhance the quality, utility, and clarity of the information to be collected; and

(4) Ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: February 10, 2009
Hope Grey,
Information Collection Clearance Officer, Fish and Wildlife Service.

FR Doc. E9-3409 Filed 2-13-09; 8:45 am

BILLING CODE 4310-55-S